DEPARTMENT OF THE INTERIOR

Indian Arts and Crafts Board

Notice of Proposed Information Collection for Source Directory Publication

AGENCY: Indian Arts and Crafts Board, Interior.

ACTION: Notice and request for comments.

SUMMARY: In compliance with the Paperwork Reduction Act of 1995, the Indian Arts and Crafts Board (IACB) is announcing its intention to request approval for the collection of information for the Source Directory of American Indian and Alaska native owned and operated arts and crafts businesses. Two Business Listing Applications for (1) new businesses—group; (2) new businesses-individual; two Source Directory Business Listing Renewal Forms for (1) renewal for businesses already listed—group; and (2) renewal for businesses already listed—individual. There are four (4) types of forms total. Each respondent will only be asked to complete one (1) applicable form. This collection request has been forwarded to the Office of Management and Budget (OMB) for review and comment. The information collection request describes the nature of the information collection and the expected burden and cost.

DATES: OMB has up to 60 days to approve or disapprove the information collections but may respond after 30 days. Therefore, public comments should be submitted to OMB by June 14, 2002, in order to be assured of consideration.

ADDRESSES: Office of Information and Regulatory Affairs, Office of Management and Budget, Attention: Department of the Interior Desk Officer, 725 17th Street, NW., Washington, DC 20503. Also, please send a copy of your comments to Meridith Z. Stanton, Indian Arts and Crafts Board, U.S. Department of the Interior, 1849 C Street, NW., MS-4004 MIB, Washington, DC 20240 or electronically by e-mail to iacb@os.doi.gov.

FOR FURTHER INFORMATION CONTACT: Requests for additional information or copies of the Source Directory application or renewal forms, i.e., the information collection instruments, should be directed to Meridith Z. Stanton, Director, Indian Arts and Crafts Board, 1849 C Street, NW., MS 4004 MIB, Washington, DC 20240. You may also call (202) 208-3773 (not a toll free call), or send your request by e-mail to iacb@os.doi.gov or by facsimile to (202) 208-5196.

SUPPLEMENTARY INFORMATION:

I. Abstract

The Source Directory of American Indian and Alaska Native owned and operated arts and crafts enterprises is a program of the Indian Arts and Crafts Board that promotes American Indian and Alaska Native arts and crafts. The Source Directory is a forty-one page full-color illustrated publication featuring fine examples of contemporary American Indian and Alaska Native art from the major cultural areas in the United States. The Source Directory also comes with a listing of American Indian and Alaska native owned and operated arts and crafts businesses. This listing is included as an insert in the back cover of the Source Directory.

The service of being listed in this publication is provided free-of-charge to members of Federally recognized tribes. Businesses listed in the Source Directory include American Indian and Alaska Native artists and craftspeople, cooperatives, tribal arts and crafts enterprises, businesses privately-owned-and-operated by American Indian and Alaska Native artists, designers, and craftspeople, and businesses privately owned-and-operated by American Indian and Alaska Native merchants who retail and/or wholesale authentic Indian and Alaska Native arts and crafts. Business listings in the Source Directory are arranged alphabetically by State. The Source Directory may be ordered from the Superintendent of Documents, P.O. Box 371954, Pittsburgh, PA 15250-7954, for a cost of $9.50 which includes shipping and handling. The business listings are also available on the Board's website located at www.iacb.doi.gov.

The Director of the Board uses this information to determine whether an individual or business applying to be listed in the Source Directory meets the requirements for listing. The approved application will be printed in the Source Directory. The Source Directory is updated annually to include new businesses and to update existing information.

II. Method of Collection

To be listed in the Source Directory, interested individuals and businesses must submit: (1) A letter requesting an entry in the Source Directory, (2) a draft of their business information in a format like the other Source Directory listings, (3) a copy of the individual's or business owner's tribal enrollment card; and for businesses, proof that the business is organized under tribal, State or Federal law; and (4) a certification that the business is an American Indian or Alaska Native owned and operated cooperative, tribal enterprise, or nonprofit organization or that the owner of the enterprise is an enrolled member of a Federally recognized American Indian tribe or Alaska Native group.

The following information is collected in a single-page form that is distributed by the Indian Arts and Crafts Board. Although listing in the Source Directory is voluntary, submission of this information is required for inclusion in the Directory.

Information collected | Reason for collection
Name of business, mailing address, city, zip code (highway location, Indian reservation, etc.), telephone number and e-mail address | To identify the business to be listed in the Source Directory, and method of contact.
Type of organization | To identify the nature of the business entity.
Hours/season of operation | To identify those days and times when customers may contact the business.
Internet website address | To identify whether the business advertises and/or sells inventory online.
Main categories of products | To identify the products that the business produces.
Retail or wholesale products | To identify whether the business is a retail or wholesale business.
Mail order and/or catalog | To identify whether the business has a mail order and/or catalog.
Price list information, if applicable | To identify the cost of the listed products.
For a cooperative or tribal enterprise, a copy of documents showing that the organization is formally organized under tribal, State or federal law | To determine whether the business meets the eligibility requirement for listing in the Source Directory.
Signed certification that the business is an American Indian or Alaska Native owned and operated cooperative, tribal enterprise, or nonprofit organization | To obtain verification that the business is an American Indian or Alaska Native owned and operated business.
Copy of the business owner's tribal enrollment card | To determine whether the business owner is an enrolled member of a federally-recognized tribe.
Signed certification that the owner of the business is a member of a federally-recognized tribe | To obtain verification that the business owner is an enrolled member of a federally-recognized tribe.

The proposed use of the information: The information collected will be used by the Indian Arts and Crafts Board:

(a) to determine whether an individual or business meets the eligibility requirements for inclusion in the Source Directory, i.e., whether they are either an American Indian or Alaska Native owned and operated cooperative, tribal enterprise, or nonprofit organization, or an enrolled member of a Federally-recognized American Indian tribe or Alaska Native group;

(b) to identify the applicant's business information to be printed in the Source Directory. IACB has submitted a request to OMB to approve the collection of information for the Source Directory. Two Business Listing Applications for (1) new businesses—group; (2) new businesses—individual; two Source Directory Business Listing Renewal Forms for (1) renewal for businesses already listed—group; and (2) renewal for businesses already listed—individual. There are four (4) types of forms total. Each respondent will only be asked to complete one (1) applicable form. The IACB is requesting a 3-year term of approval for the information collection activity.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

An agency may not conduct or sponsor, and a person is not required to respond to, a collection of information unless it displays a currently valid Office of Management and Budget control number.

As required under 5 CFR 1320.8(d), a Federal Register notice soliciting comments on the collection of information was published on August 2, 2001 (66 FR 40293). No comments were received. This notice provides the public with an additional 30 days in which to comment on the following information collection activity:

(1) Title: Source Directory of American Indian and Alaska Native owned and operated arts and crafts businesses application and renewal forms.

OMB Control Number: 1085-xxxx.

Type of Review: New Collection.

Affected Entities: Business or other for-profit; Tribes.

Estimated Annual Number of Respondents: 100.

Frequency of Collection: Annual.

(2) Annual reporting and record keeping burden.

Total Annual Reporting Per Respondent: 15 minutes.

Total Annual Burden Hours: 25 hours.

(3) Description of the need and use of the information: Submission of this information is required to receive the benefit of being listed in the Indian Arts and Crafts Board Source Directory. The information is collected to determine the applicant's eligibility for the service and to obtain the applicant's name and business address to be printed in the publication.

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Dated: December 21, 2001.
Meridith Z. Stanton,
Director, Indian Arts and Crafts Board.

[FR Doc. 02-12165 Filed 5-14-02; 8:45 am]

BILLING CODE 4310-RK-P